DEPARTMENT OF ENERGY

Federal Energy Regulatory Commission

Combined Notice of Filings #1

Take notice that the Commission received the following electric rate filings:

Docket Numbers: ER10-2016-002; ER10-2011-004.

Applicants: PPL Montana, LLC, PPL EnergyPlus, LLC.

Description: The PPL Northwest Companies submit a Supplement to Notice of Change in Status Regarding Market-Based Rate Authority.

Filed Date: 6/25/12.

Accession Number: 20120625-5198.

Comments Due: 5 p.m. ET 7/16/12.

Docket Numbers: ER10-2474-002; ER10-2475-002.

Applicants: Sierra Pacific Power Company, Nevada Power Company.

Description: Notice of Non-Material Change in Status of Sierra Pacific Power Company, et al.

Filed Date: 6/25/12.

Accession Number: 20120625-5196.

Comments Due: 5 p.m. ET 7/16/12.

Docket Numbers: ER10-2719-007; ER10-2718-007; ER10-2578-009; ER10-2633-007; ER10-2570-007; ER10-2717-007; ER10-3140-006.

Applicants: East Coast Power Linden Holding, LLC, Cogen Technologies Linden Venture, L.P., Fox Energy Company, LLC, Birchwood Power Partners, L.P., Shady Hills Power Company LLC, EFS Parlin Holidngs, LLC, Inland Empire Energy Center, LLC.

Description: Notice of Non-Material Change in Status of East Coast Power Linden Holding, LLC, et al. under ER10-2719, et. al.

Filed Date: 6/25/12.

Accession Number: 20120625-5197.

Comments Due: 5 p.m. ET 7/16/12.

Docket Numbers: ER11-3736-001.

Applicants: Pocahontas Prairie Wind, LLC.

Description: Updated Market Power Analysis for the Central Region of Pocahontas Prairie Wind, LLC.

Filed Date: 6/25/12.

Accession Number: 20120625-5194.

Comments Due: 5 p.m. ET 8/24/12.

Docket Numbers: ER12-1566-000, ER12-1566-001.

Applicants: Copper Mountain Solar 2, LLC.

Description: Copper Mountain Solar 2, LLC MBR Application Second Supplement.

Filed Date: 6/18/12.

Accession Number: 20120618-5125.

Comments Due: 5 p.m. ET 7/9/12.

Docket Numbers: ER12-1633-003.

Applicants: U.S. Energy Partners, LLC.

Description: U.S. Energy MBR Compliance Filing to be effective 6/15/2012.

Filed Date: 6/25/12.

Accession Number: 20120625-5061.

Comments Due: 5 p.m. ET 7/16/12.

Docket Numbers: ER12-2071-001.

Applicants: Verde Energy USA New York, LLC.

Description: Amended MBR Application to be effective 8/20/2012.

Filed Date: 6/25/12.

Accession Number: 20120625-5135.

Comments Due: 5 p.m. ET 7/16/12.

Docket Numbers: ER12-2095-000.

Applicants: ITC Midwest LLC.

Description: Filing of a Common Use Agreement to be effective 8/27/2012.

Filed Date: 6/25/12.

Accession Number: 20120625-5053.

Comments Due: 5 p.m. ET 7/16/12.

Docket Numbers: ER12-2096-000.

Applicants: Southern California Edison Company.

Description: Amendment to Blythe Energy, LLC LGIA to be effective 8/25/2012.

Filed Date: 6/25/12.

Accession Number: 20120625-5054.

Comments Due: 5 p.m. ET 7/16/12.

Docket Numbers: ER12-2097-000.

Applicants: Moraine Wind LLC.

Description: Tariff Revisions to be effective 6/30/2012.

Filed Date: 6/25/12.

Accession Number: 20120625-5055.

Comments Due: 5 p.m. ET 7/16/12.

Docket Numbers: ER12-2098-000.

Applicants: New York Independent System Operator, Inc.

Description: Amended Restated Agreement No. 1744 Among NYISO, NYPA, and Marble River to be effective 6/13/2012.

Filed Date: 6/25/12.

Accession Number: 20120625-5059.

Comments Due: 5 p.m. ET 7/16/12.

Docket Numbers: ER12-2099-000.

Applicants: Southwest Power Pool, Inc.

Description: 607R15 Westar Energy, Inc. NITSA and NOA to be effective 6/1/2012.

Filed Date: 6/25/12.

Accession Number: 20120625-5093.

Comments Due: 5 p.m. ET 7/16/12.

Docket Numbers: ER12-2100-000.

Applicants: Vermont Transco, LLC.

Description: Vermont Transco LLC Updated Exhibit A for the 1991 Transmission Agreement to be effective 7/1/2012.

Filed Date: 6/25/12.

Accession Number: 20120625-5094.

Comments Due: 5 p.m. ET 7/16/12.

Docket Numbers: ER12-2101-000.

Applicants: Moraine Wind II LLC.

Description: Tariff Revisions to be effective 6/30/2012.

Filed Date: 6/25/12.

Accession Number: 20120625-5098.

Comments Due: 5 p.m. ET 7/16/12.

Docket Numbers: ER12-2102-000.

Applicants: New Harvest Wind Project LLC.

Description: Tariff Revisions to be effective 6/30/2012.

Filed Date: 6/25/12.

Accession Number: 20120625-5105.

Comments Due: 5 p.m. ET 7/16/12.

Docket Numbers: ER12-2104-000.

Applicants: Michigan Electric Transmission Company, LLC.

Description: METC Filing of Facilities Agreement to be effective 8/27/2012.

Filed Date: 6/25/12.

Accession Number: 20120625-5134.

Comments Due: 5 p.m. ET 7/16/12.

Docket Numbers: ER12-2105-000.

Applicants: New York State Electric & Gas Corporation.

Description: Attachment C—O&M Annual Update to be effective 9/1/2012.

Filed Date: 6/25/12.

Accession Number: 20120625-5136.

Comments Due: 5 p.m. ET 7/16/12.

Docket Numbers: ER12-2106-000.

Applicants: Rugby Wind LLC.

Description: Tariff Revisions to be effective 6/30/2012.

Filed Date: 6/25/12.

Accession Number: 20120625-5140.

Comments Due: 5 p.m. ET 7/16/12.

Docket Numbers: ER12-2107-000.

Applicants: Trimont Wind I LLC.

Description: Tariff Revisions to be effective 6/30/2012.

Filed Date: 6/25/12.

Accession Number: 20120625-5153.

Comments Due: 5 p.m. ET 7/16/12.

Docket Numbers: ER12-2108-000.

Applicants: MinnDakota Wind LLC.

Description: Tariff Revisions to be effective 6/30/2012.

Filed Date: 6/25/12.

Accession Number: 20120625-5159.

Comments Due: 5 p.m. ET 7/16/12.

Docket Numbers: ER12-2109-000.

Applicants: Northern Iowa Windpower II LLC.

Description: Tariff Revisions to be effective 6/30/2012.

Filed Date: 6/25/12.

Accession Number: 20120625-5160.

Comments Due: 5 p.m. ET 7/16/12.

Docket Numbers: ER12-2110-000.

Applicants: Florida Power & Light Company.

Description: FPL Revisions to FKEC Rate Schedule FERC No. 322 to be effective 5/1/2011.

Filed Date: 6/25/12.

Accession Number: 20120625-5177.

Comments Due: 5 p.m. ET 7/16/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2012.
Nathaniel J. Davis, Sr.,
Deputy Secretary.

[FR Doc. 2012-16230 Filed 7-2-12; 8:45 am]

BILLING CODE 6717-01-P